DEPARTMENT OF JUSTICE

Re-Published Notice of Lodging of Consent Decree Pursuant to the Resource Conservation and Recovery Act

In accordance with 28 CFR 50.7, the Department of Justice gives notice that a proposed consent decree in United States v. Mobil Oil Corporation, No. CV-96-1432 (E.D.N.Y.), was lodged with the United States District Court for the Eastern District of New York on December 13, 2001, pertaining to the payment of a civil penalty, compliance and other injunctive relief, and implementation of a supplemental environmental project in connection with the Mobil Oil Corporation's (“Mobil”) violations of the Resource Conservation and Recovery Act, 42 U.S.C. 6901 et seq., at the Port Mobil facility in Staten Island, New York City, New York. Notice of this proposed consent decree was published in the Federal Register on January 2, 2002 (67 FR 109). This notice is being re-published, and the public comment period extended, because of continuing serious disruptions of mail delivery at the Department of Justice in Washington, DC that have resulted from measures taken in response to the receipt of anthrax-contaminated mail in various facilities. Persons who submitted comments to the address given in the January 2, 2002 notice should assume they have not been received and should resubmit them to the address given below.

Under the proposed consent decree, Mobil will pay a civil penalty of $8.2 million, will agree to comply with RCRA at the Port Mobil facility and implement corrective action as directed by the U.S. Environmental Protection Agency, will agree to refrain from making certain legal arguments under specified circumstances, and will agree to implement a supplemental environmental project—purchasing land for preservation in the Staten Island or New York City harbor area—at a cost of at least $3 million. the Consent Decree includes a release of claims alleged in the complaint.

The Department of Justice will receive, for a period of thirty (30) days from the date of this publication, comments relating to the proposed consent decree. Commenters may request an opportunity for a public meeting in the affected area, in accordance with RCRA section 7003(d), 42 U.S.C. 6973(d). Comments should be addressed to the Assistant Attorney General, Environment and Natural Resources Division, United States Department of Justice, should refer to United States v. Mobil Oil Corporation, No. CV-96-1432 (E.D.N.Y.) and to DOJ Reference No. 90-7-1-794, and should be submitted in one of the following ways: (1) By mail c/o the United States Attorney for the Eastern District of New York, One Pierrepont Plaza, Brooklyn, New York 11201; or (2) by facsimile to (202) 353-0296; or (3) by overnight delivery, other than through the U.S. Postal Service, to Chief, Environmental Enforcement Section, 1425 New York Avenue, NW, 13th Floor, Washington, DC 20005. Any comments that were submitted by mail to the Assistant Attorney General at the Department of Justice address in Washington, DC 20530, should be re-submitted in one of the three ways listed above, in order to ensure that they are considered.

The proposed consent decree may be examined at: (1) The Office of the United States Attorney for the Eastern District of New York, One Pierrepont Plaza, Brooklyn, New York 11201, (718) 254-7000; and (2) the United States Environmental Protection Agency (Region 2), 290 Broadway, New York, New York 10007 (contact Stuart Keith, Office of Regional Counsel). A copy of the proposed consent decree may be obtained by faxing a request to Tonia Fleetwood (202) 616-6584 (phone confirmation number (202) 514-1547). There is a charge for the copy. When you request a copy, please mail a check payable to “U.S. Treasury” in the amount of $6.00 (24 pages at 25 cents per page copying costs) to: Consent Decree Library, PO Box 7611, Washington, DC 20044. The check should refer to United States v. Mobil Oil Corporation, No. CV-96-1432 (E.D.N.Y.) and to DOJ Reference No. 90-7-1-794.

Ronald G. Gluck,
Assistant Chief, Environmental Enforcement Section, Environmental and Natural Resources Division.

[FR Doc. 02-1835 Filed 1-24-02; 8:45 am]

BILLING CODE 4410-15-M